ENVIRONMENTAL PROTECTION AGENCY

[ER-FRL-9048-1]

Environmental Impact Statements; Notice of Availability

Responsible Agency: Office of Federal Activities, General Information 202-564-5632 or https://www.epa.gov/nepa/.

Weekly receipt of Environmental Impact Statements

Filed 11/11/2019 10 a.m. ET Through 11/18/2019 10 a.m. ET

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190274, Draft, BIA, OK, Osage County Oil and Gas Draft Environmental Impact Statement, Comment Period Ends: 01/06/2020, Contact: Mosby Halterman 918-781-4660

EIS No. 20190275, Final, USFS, CA, Squaw Valley-Alpine Meadows Base-to-Base Gondola Project, Review Period Ends: 12/23/2019, Contact: Joe Flannery 530-478-6205

EIS No. 20190276, Final, FERC, OR, Jordan Cove Energy Project, Review Period Ends: 12/23/2019, Contact: Office of External Affairs 866-208-3372

EIS No. 20190277, Final, BLM, WA, San Juan Islands National Monument Proposed Resource Management Plan and Final Environmental Impact Statement, Review Period Ends: 12/23/2019, Contact: Lauren Pidot 503-808-6297

EIS No. 20190278, Draft, BLM, AK, National Petroleum Reserve in Alaska Integrated Activity Plan and Environmental Impact Statement, Comment Period Ends: 01/21/2020, Contact: Stephanie Rice 907-271-3202

EIS No. 20190279, Draft, USACE, CO, Halligan Water Supply Project, Comment Period Ends: 01/27/2020, Contact: Cody Wheeler 720-922-3846

EIS No. 20190280, Draft, USACE, LA, South Central Coast Louisiana Draft Feasibility Study with Integrated Environmental Impact Statement, Comment Period Ends: 01/06/2020, Contact: Joe Jordan 309-794-5791

Dated: November 18, 2019.
Robert Tomiak,
Director, Office of Federal Activities.

[FR Doc. 2019-25377 Filed 11-21-19; 8:45 am]

BILLING CODE 6560-50-P